FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 31, 2015.

A. Federal Reserve Bank of Cleveland (Nadine Wallman, Vice President) 1455 East Sixth Street, Cleveland, Ohio 44101-2566:

1. Jeffrey Joseph Woda, Columbus, Ohio, and David Cooper, Jr., Gahanna, Ohio, individually and as a group acting in concert, to acquire additional voting shares of Benchmark Bancorp, Inc., and thereby indirectly acquire additional voting shares of Benchmark Bank, both in Gahanna, Ohio.

B. Federal Reserve Bank of Kansas City (Dennis Denney, Assistant Vice President) 1 Memorial Drive, Kansas City, Missouri 64198-0001:

1. Joanne E. Matthews, individually and as trustee of Haviland Bancshares, Inc. Employee Stock Ownership Plan, Leawood, Kansas, to acquire additional voting shares of Haviland Bancshares, Inc., and thereby indirectly acquire additional voting shares of The Haviland State Bank, both in Haviland, Kansas; and Stanley E. Robertson, Greensburg, Kansas, to retain voting shares of Haviland Bancshares, Inc., and thereby indirectly retain voting shares of the Haviland State Bank, both in Haviland, Kansas.

Board of Governors of the Federal Reserve System, August 11, 2015.
Michele Taylor Fennell,
Assistant Secretary of the Board.

[FR Doc. 2015-20176 Filed 8-14-15; 8:45 am]

BILLING CODE 6210-01-P